FEDERAL COMMUNICATIONS COMMISSION

[DA 07-3759]

Reminder to Video Programming Distributors and the Public of the January 1, 2008, Requirements for the Closed Captioning of English “Pre-rule” Nonexempt Video Programming

AGENCY: Federal Communications Commission.

ACTION: Notice.

SUMMARY: In this document, the Commission reminds video programming distributors—including broadcasters, cable operators, and satellite television services—and the public of the upcoming closed captioning benchmark for “pre-rule” English language nonexempt video programming.

DATES: Effective January 1, 2008.

ADDRESSES: Federal Communications Commission, 445 12th Street, SW., Washington, DC 20554.

FOR FURTHER INFORMATION CONTACT: Amelia Brown (202) 418-2799 (voice), (202) 418-7804 (TTY), Amelia.Brown@fcc.gov; or Traci Randolph, (202) 418-0569 (voice), (202) 418-0537 (TTY), Traci.Randolph@fcc.gov.

SUPPLEMENTARY INFORMATION: This is a summary of document DA 07-3759, released August 28, 2007. The full text of document DA 07-3759 and copies of any subsequently filed documents relating to this matter will be available for public inspection and copying during regular business hours at the FCC Reference Information Center, Portals II, 445 12th Street, SW., Room CY-A257, Washington, DC 20554. Document DA 07-3759 and copies of subsequently filed documents in this matter may also be purchased from the Commission's contractor at Portals II, 445 12th Street, SW., Room CY-B402, Washington, DC 20554. Customers may contact the Commission's contractor at their Web site http://www.bcpiweb.com or by calling 1-800-378-3160.

To request materials in accessible formats for people with disabilities (Braille, large print, electronic files, audio format), send an e-mail to fcc504@fcc.gov or call the Consumer & Governmental Affairs Bureau at (202) 418-0530 (voice) or (202) 418-0432 (TTY). Document DA 07-3759 can also be downloaded in Word and Portable Document Format (PDF) at http://www.fcc.gov/cgb/dro.

Synopsis

The Commission reminds video programming distributors and the public of the upcoming closed captioning benchmark for “pre-rule” English language nonexempt video programming. As of January 1, 2008, 75% of all nonexempt pre-rule English language programming must be captioned per channel, per calendar quarter. Pre-rule video programming is programming that was first published or exhibited before January 1, 1998 (for analog programming) or before July 1, 2002 (for digital programming). Nonexempt programming is video programming that is not exempt pursuant to a self-implementing exemption found in 47 CFR 79.1(d) of the Commission's rules, or pursuant to an exemption based on the undue burden standard found in 47 CFR 79.1(f ) of the Commission's rules, and, accordingly, is subject to closed captioning requirements. These closed captioning requirements are separate from video programming distributors' obligations to make emergency information accessible to persons with hearing and vision disabilities.

Federal Communications Commission.
Nicole McGinnis,
Deputy Chief, Consumer & Governmental Affairs Bureau.

[FR Doc. E7-18862 Filed 9-26-07; 8:45 am]

BILLING CODE 6712-01-P